COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds services to the Procurement List that will be provided by nonprofit agencies employing persons who are blind or have other severe disabilities.

DATES: Date added to the Procurement List: August 26, 2018.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 5/18/2018 (83 FR 97) and 6/15/2018 (83 FR 116), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with services proposed for addition to the Procurement List.

End of Certification

Accordingly, the following services are added to the Procurement List:

Services

Service Type: Recycling Service

Mandatory for: U.S. Army, Walter Reed Army Institute of Research, Safety & Environment Department, Forest Glen Annex, Buildings 500, 501, 503, 508, 509, 511 & the Temporary Phasing Facilities, 503 Robert Grant Avenue, Silver Spring, MD

Mandatory Source(s) of Supply: MVLE, Inc., Springfield, VA

Contracting Activity: Dept Of The Army, W4PZ USA MED RSCH ACQUIS ACT

Service Type: Facilities Operation and Maintenance Service

Mandatory for: National Institutes of Health, NIH Animal Center, 16701 Elmer School Road, Dickerson, MD

Mandatory Source(s) of Supply: Skookum Educational Programs, Bremerton, WA

Contracting Activity: National Institutes of Health, NIH A E Construction

Michael R. Jurkowski,
Business Management Specialist, Business Operations.

[FR Doc. 2018-16106 Filed 7-26-18; 8:45 am]

BILLING CODE 6353-01-P